AGENCY FOR INTERNATIONAL DEVELOPMENT

Agency Information Collection Activities; Submission to the Office of Management and Budget for Review and Approval; Comment Request

AGENCY: U.S. Agency for International Development.

ACTION: Notice of information collection.

SUMMARY: U.S. Agency for International Development (USAID), as part of its continuing effort to reduce paperwork and respondent burden, invites the general public and other Federal agencies to take this opportunity to comment on the following new information collection, as required by the Paperwork Reduction Act of 1995, Public Law 104-13. Comments are requested concerning (1) Whether the proposed collection of information is necessary for the sustaining USAID-funded programming beyond USAID funding; (2) the accuracy of USAID's estimate of the burden of the proposed collection of information; (3) ways to enhance the quality, utility, and clarity of the information to be collected; and (4) ways to minimize the burden of the collection of information on respondents.

DATES: All comments should be submitted within 60 calendar days from the date of this publication.

ADDRESSES: Interested persons are invited to submit comments regarding the proposed information collection to Elena Walls, USAID, Bureau of Economic Growth, Education and Environment (E3)/Office of Education at ewalls@usaid.gov.

FOR FURTHER INFORMATION CONTACT: Elena Walls, USAID, Bureau of Economic Growth, Education and Environment (E3)/Office of Education at ewalls@usaid.gov or 202-468-3810.

SUPPLEMENTARY INFORMATION:

I. Abstract

While the field of international education has made great strides in recent years with raising the number and the quality of impact evaluations, their results are incomplete without cost data for these interventions. Policy makers and donors cannot make fully informed decisions about the best way to invest limited resources without information about the costs of achieving desired outputs and outcomes through different interventions or delivery strategies. Evidence on the cost of interventions is also critical for making responsible decisions about scaling and sustaining programs within country systems. The USAID Office of Education is working to address this gap through systematic efforts to measure costs of USAID interventions. The proposed form is intended to collect such data. The form includes a section for collecting data on the amount and details of contributions of partner governments and non-governmental entities (private companies, NGOs, individuals) toward achieving objectives of USAID-funded education activities, and a section on collecting information on details of interventions. “Intervention” is defined as a discreet set of tasks performed by the USAID awardee that is expected to lead to specific education-related outcomes. The “contributions” are in-kind or monetary donations by the host government or non-governmental entity valued at or over $1,000 and essential to achieving activity objectives. “Dosage” refers to the amount of intervention a beneficiary receives. The data will be collected by USAID/Missions from USAID implementing partners using worksheets in the form which will be adjusted according to the scope of work of the USAID-funded activity. Implementing partners will be submitting data in a spreadsheet file. USAID/Washington and USAID/Missions will use the data collected through this form used alongside expenditure data in cost analyses of education activities to calculate cost-efficiency and cost-effectiveness of USAID-funded education interventions. The main purpose is to enable a transfer of effective education interventions to host governments. The secondary purpose is to improve future planning and budgeting by USAID Missions. These objectives are aligned with Congressional requirements under Foreign Aid Transparency and Accountability Act of 2016 and under Reinforcing Education Accountability in Development Act or the READ Act of 2018. They are also closely aligned with the Journey to Self-Reliance for countries where USAID operates.

Method of Collection

Electronic.

II. Data

Title: USAID Education Cost Reporting Form.

OMB Number: Not assigned, new information collection.

Expiration Date: Not yet known.

Type of Request: New collection.

Affected Public: US and foreign-based organizations receiving funding for education programming from USAID.

Estimated Number of Respondents per Year: 90.

Estimated Total Annual Burden Hours per Respondent: Between 2 and 14 hours per respondent per year, average 8 hours.

III. Request for Comments

Comments are invited on: (1) Whether the proposed collection of information is necessary for the sustaining USAID-funded programming beyond USAID funding; (2) the accuracy of USAID's estimate of the burden of the proposed collection of information; (3) ways to enhance the quality, utility, and clarity of the information to be collected; and (4) ways to minimize the burden of the collection of information on respondents. Comments submitted in response to this notice will be summarized and included in the request for OMB approval of this information collection. The comments will also become a matter of public record.

Benjamin Sylla,
Evidence Team Lead, Engagement, Policy and Planning Division, Office of Education, U.S. Agency for International Development.

[FR Doc. 2019-15228 Filed 7-17-19; 8:45 am]

BILLING CODE P